DEPARTMENT OF JUSTICE

Drug Enforcement Administration

Importer of Controlled Substances; Notice of Application; R & D Systems, Inc.

Correction

In notice document 2012-19193 appearing on pages 47110-47111 in the issue of Tuesday, August 7, 2012, make the following corrections:

1. On page 47110, in the third column, the document heading should appear as set forth above.

2. On page 47110, in the fifth paragraph following the table, in the eighth line of text, “September 6, 2012” should read “September 19, 2012”.

[FR Doc. C1-2012-19193 Filed 8-17-12; 8:45 am]

BILLING CODE 1505-01-D